DEPARTMENT OF THE INTERIOR

Bureau of Indian Affairs

Proclaiming Certain Lands as Reservation for the Cow Creek Band of Umpqua Tribe of Indians in Oregon

AGENCY: Bureau of Indian Affairs, Interior.

ACTION: Notice of Reservation Proclamation.

SUMMARY: The Assistant Secretary—Indian Affairs proclaimed approximately 200.05 acres as an addition to the reservation of the Cow Creek Band of Umpqua Tribe of Indians on May 3, 2000. This notice is published in the exercise of authority delegated by the Secretary of the Interior to the Assistant Secretary—Indian Affairs by 209 DM 8.1.

FOR FURTHER INFORMATION CONTACT: Larry E. Scrivner, Bureau of Indian Affairs, Division of Real Estate Services, MS-4510/MIB/Code 220, 1849 C Street, NW., Washington, DC 20240, telephone (202) 208-7737.

SUPPLEMENTARY INFORMATION: A proclamation was issued according to the Act of June 18, 1934 (48 Stat. 986; 25 U.S.C. 467), for the tract of land described below. The land was proclaimed to be an addition to and part of the reservation of the Cow Creek Band of Umpqua Tribe of Indians for the exclusive use of Indians on that reservation who are entitled to reside at the reservation by enrollment or tribal membership.

Reservation of the Cow Creek Band of Umpqua Tribe of Indians

The following described real property is located in the North Half of Section 29 and in the South Half of Section 20, Township 30 South, Range 5 West, Willamette Meridian, Douglas County, Oregon.

Beginning at a brass cap located at the Southwest corner of the William Preston Donation Land Claim Number 44, Township 30 South, Range 5 West, Willamette Meridian, Douglas County, Oregon; Thence along the West boundary of said Donation Land Claim Number 44, North 0°48′23″ East 2231.02 feet to a ⅝ inch iron rod located at the intersection of said Donation Land Claim and the section line common to Sections 20 and 29, Township 30 South, Range 5 West, Willamette Meridian, Douglas County, Oregon; Thence along said section line, North 89°58′05″ West 1932.48 feet to a brass cap located at the Section Corner common to Sections 19, 20, 29, and 30, Township 30 South, Range 5 West, Willamette Meridian, Douglas County, Oregon; Thence along the section line common to Sections 19 and 20, North 1°00′05″ East 677.74 feet to a ⅝ inch iron rod located on the southerly right of way boundary of County Road Number 20A; Thence along said southerly right of way boundary, North 72°57′10″ East 402.28 feet to a ⅝ iron rod; Thence continuing along said southerly right of way boundary, North 17°02′50″ West 95.00 feet to a ⅝ inch iron rod; Thence leaving said southerly right of way boundary and crossing said County Road Number 20A, North 17°02′50″ West 60.00 feet to a ⅝ inch iron rod located on the northerly right of way boundary of said County Road Number 20A; Thence along said northerly right of way boundary, North 17°02′50″ West 50.00 feet to a point; Thence continuing along said northerly right of way boundary, South 72°57′10″ West 70.84 feet to a point located on the said northerly right of way boundary and its intersection with the southeasterly bank of the South Umpqua River; Thence leaving said northerly right of way boundary and running along the said southeasterly bank of the South Umpqua River, North 33°50′49″ East 81.20 feet to a point; Thence continuing along said southeasterly bank of the South Umpqua River, North 40°35′52″ East 153.31 feet to a point; Thence continuing along said southeasterly bank of the South Umpqua River, North 45°23′03″ East 24.87 feet to a point; Thence continuing along said southeasterly bank of the South Umpqua River, North 55°48′50″ East 78.16 feet to a point; Thence continuing along said southeasterly bank of the South Umpqua River North 42°45′25″ East 35.86 feet to a point; Thence continuing along said southeasterly bank of the South Umpqua River, North 36°24′42″ East 75.45 feet to a point located on the South boundary of Government Lot 2, Section 20, Township 30 South, Range 5 West, Willamette Meridian, Douglas County, Oregon; Thence leaving said southeasterly bank of the South Umpqua River and running along the South boundary of said Government Lot 2, South 89°29′39″ East 44.57 feet to a point located at the Southeast corner of said Government Lot 2 on the westerly boundary of the John Yokum Donation Land Claim Number 43; Thence along the easterly boundary of said Government Lot 2, North 1°06′14″ East 51.10 feet to a point located at the Northeast corner of said Government Lot 2, said point is along the interior “L” Corner of the said John Yokum Donation Land Claim Number 43; Thence North 2°02′42″ East 919.73 feet to a ⅝ inch iron rod located in the southerly right of way boundary of U.S. Interstate Highway Number 5; Thence along said southerly right of way boundary of U.S. Interstate Highway Number 5, North 78°37′03″ East 212.05 feet to a ⅝ inch iron rod; Thence continuing along said southerly right of way of said U.S. Interstate Highway Number 5, North 89°54′19″ East 499.91 feet to a ⅝ inch iron rod located on the northwesterly right of way boundary of said County Road Number 20A; Thence leaving said southerly right of way boundary of said U.S. Interstate Highway Number 5 and running along the said northwesterly right of way boundary of said County Road Number 20A, South 12°57′22″ West 225.06 feet to a ⅝ inch iron rod; Thence leaving said northwesterly right of way of said County Road Number 20A and crossing the right of way of said County Road Number 20A, South 67°42′14″ East 60.29 feet to a ⅝ inch iron rod located on the southeasterly right of way boundary of said County Road Number 20A; Thence along said southeasterly right of way boundary of said County Road Number 20A, North 39°46′17″ East 16.34 feet to a ⅝ inch iron rod located on the said southerly right of way of said U.S. Interstate Highway Number 5; Thence leaving said right of way boundary of said County Road Number 20A and running along the said southerly right of way boundary of said U.S. Interstate Highway Number 5, North 89°54′39″ East 184.60 feet to a ⅝ inch iron rod; Thence continuing along said southerly right of way boundary of said U.S. Interstate Highway Number 5, North 84°00′20″ East 200.89 feet to a ⅝ inch iron rod; Thence continuing along said southerly right of way boundary of said U.S. Interstate Highway Number 5, North 71°52′32″ East 210.36 feet to a ⅝ inch iron rod; Thence continuing along said southerly right of way boundary of said U.S. Interstate Highway Number 5, North 55°08′48″ East 139.93 feet to a ⅝ inch iron rod; Thence continuing along said southerly right of way boundary of said U.S. Interstate Highway Number 5, North 40°06′59″ East 2.77 feet to a ⅝ inch iron rod; Thence leaving said southerly right of way of said U.S. Interstate Highway Number 5 and running South 0°24′54″ West 45.71 feet to a ⅝ inch iron rod; Thence South 89°35′07″ East 160.00 feet to a ⅝ inch iron rod; Thence South 0°24′54″ West 836.51 feet to a point from which a 1/2 inch iron rod bears South 0° 24′54″ West 1.44 feet; Thence South 89°23′37″ East 534.73 feet to a 1/2 inch iron rod; Thence South 0°54′31″ West 256.92 feet to a ⅝ inch iron rod; Thence Due East 693.05 feet to a ⅝ inch iron rod; Thence South 2°11′00″ West 577.95 feet to a ⅝ inch iron rod; Thence South 0°08′20″ West 585.20 feet to a ⅝ inch iron rod located on the section line common to said Sections 20 and 29, Township 30 South, Range 5 West, Willamette Meridian, Douglas County, Oregon; Thence along said section line common to said Sections 20 and 29, North 86°41′24″ West 63.09 feet to a ⅝ inch iron rod; Thence leaving said section line common to said Sections 20 and 29, South 0°08′20″ West 2181.12 feet to a ⅝ inch iron rod located on the South boundary of said William Preston Donation Land Claim Number 44; Thence along the southerly boundary of said William Preston Donation Land Claim Number 44, Due West 1452.48 feet to the point of beginning.

Less that portion of Douglas County Road Number 20A that crosses through the Northwest corner of the above described property. Said portion of said Douglas County Road Number 20A is more particularly described as follows:

Beginning at a ⅝ inch iron rod located on the southerly right of way boundary of Douglas County Road Number 20A, said ⅝ inch iron rod bears North 1°00′05′′ East 677.74 feet, North 72°57′10′′ East 402.98 feet, and North 17°02′50′′ West 95.00 feet from the Section Corner common to Sections 19, 20, 29, and 30, Township 30 South, Range 5 West, Willamette Meridian, Douglas County, Oregon; Thence along the said southerly right of way boundary of said Douglas County Road Number 20A, North 72°57′10′′ East 317.78 feet to a ⅝ inch iron rod; Thence continuing along said southerly right of way boundary, along the arc of a 316.49 foot radius curve to the left, the long chord of which bears North 50°25′25′′ East 242.53 feet to a ⅝ inch iron rod; Thence continuing along said southerly right of way boundary, North 27°53′40′′ East 1062.80 feet to a ⅝ inch iron rod; Thence leaving said southerly right of way boundary and crossing the right of way of said Douglas County Road Number 20A, North 67°42′14′′ West 60.29 feet to a ⅝ inch iron rod located on the northerly right of way boundary of said Douglas County Road Number 20A; Thence along said northerly right of way boundary of said Douglas County Road Number 20A, South 27°53′40′′ West 1056.92 feet to a ⅝ inch iron rod; thence continuing along said northerly right of way boundary, along the arc of a 256.49 foot radius curve to the right, the long chord of which bears South 50°25′25′′ West 196.55 feet to a ⅝ inch iron rod; Thence continuing along said northerly right of way boundary, South 72°57′10′′ West 317.78 feet to a ⅝ inch iron rod; Thence leaving said northerly right of way boundary of said Douglas County Road Number 20A and crossing the right of way of said Douglas County Road Number 20 A, South 17°02′50′′ East 60.00 feet to the Point of Beginning.

This proclamation does not affect title to the land described above, nor does it affect any valid existing easements for public roads and highways, for public utilities and for railroads and pipelines and any other rights-of-way or reservations of record.

Dated: May 3, 2000.
Kevin Gover,
Assistant Secretary—Indian Affairs.

[FR Doc. 00-13081 Filed 5-23-00; 8:45 am]

BILLING CODE 4310-02-P